ENVIRONMENTAL PROTECTION AGENCY

[EPA-HQ-OPP-2016-0618; FRL-9963-97]

Cancellation Order for Certain Pesticide Registrations and/or Amendments To Terminate Uses; Correction

AGENCY: Environmental Protection Agency (EPA).

ACTION: Notice; correction.

SUMMARY: EPA issued a notice in the Federal Register of November 22, 2016, concerning receipt of requests to voluntarily cancel certain pesticide registrations and/or amend registrations to terminate certain uses. EPA also issued a notice in the Federal Register of April 10, 2017, concerning cancellation of certain pesticide registrations and/or amendments to terminate uses. This document corrects a typographical error in both of these notices. The EPA registration number for one of the products being voluntarily cancelled was listed incorrectly in the original notices.

FOR FURTHER INFORMATION CONTACT: Christina Scheltema, Pesticide Re-evaluation Division (7508P), Office of Pesticide Programs, Environmental Protection Agency, 1200 Pennsylvania Ave. NW., Washington, DC 20460-0001; telephone number: (703) 308-2201; email address: scheltema.christina@epa.gov.

SUPPLEMENTARY INFORMATION:

I. General Information

A. Does this action apply to me?

The Agency included in both the November 22, 2016 and April 10, 2017 notices a list of those who may be potentially affected by this action.

B. How can I get copies of this document and other related information?

The docket for this action, identified by docket identification (ID) number EPA-HQ-OPP-2016-0618, is available at http://www.regulations.gov or at the Office of Pesticide Programs Regulatory Public Docket (OPP Docket) in the Environmental Protection Agency Docket Center (EPA/DC), West William Jefferson Clinton Bldg., Rm. 3334, 1301 Constitution Ave. NW., Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

II. What does this correction do?

The EPA registration number for one of the products being voluntarily cancelled was listed incorrectly in the original notices as EPA Reg. No. 100-699. The product name was listed correctly. Therefore, FR Doc. 2016-280906 published in the Federal Register of November 22, 2016 (81 FR 83833) (FRL-9959-38) is corrected as follows:

1. On page 83834, in Table 1, correct 100-699 to read 100-669.

In addition, FR Doc. 2017-07133 published in the Federal Register of April 10, 2017 (82 FR 17253) (FRL-9959-38) is corrected as follows:

1. On page 17254, in Table 1, correct 100-699 to read 100-669.

Authority: 7 U.S.C. 136 et seq.

Dated: July 7, 2017.
Yu-Ting Guilaran,
Director, Pesticide Re-evaluation Division, Office of Pesticide Programs.

[FR Doc. 2017-16386 Filed 8-2-17; 8:45 am]

BILLING CODE 6560-50-P